DEPARTMENT OF THE INTERIOR

National Park Service

General Management Plan, Environmental Impact Statement, Coronado National Memorial, Arizona

AGENCY: National Park Service, Department of the Interior.

ACTION: Notice of intent to prepare an environmental impact statement (EIS) for the general management plan, Coronado National Memorial (NM).

SUMMARY: Under the provisions of the National Environmental Policy Act of 1969, the National Park Service is preparing an environmental impact statement for the general management plan (GMP) for Coronado NM. The Director, Intermountain Region will approve this statement. The planning effort will result in a comprehensive general management plan that encompasses preservation of natural and cultural resources, visitor use and interpretation, roads, and facilities. In cooperation with local interests, attention will also be given to resources outside the boundaries that affect the integrity of Coronado NM. Alternatives to be considered include no action, the preferred alternative and other alternatives addressing the following major issues:

• How can the important natural and cultural resources be best protected and preserved, while providing for visitor use for present and future generations?

• What level and type of use is appropriate to be consistent with the memorial's purpose, and to relate to the memorial's significance?

• What facilities are needed to meet the mission goals of the memorial regarding natural and cultural resource management, visitor use and interpretation, partnerships, and operations?

The National Park Service is planning to hold public scoping meetings regarding the GMP during the week of April 3rd. Specific dates, times, and locations will be announced in the local media, and can be obtained by contacting the park superintendent. The purpose of these meetings is to explain the planning process and to obtain comments concerning appropriate resource management; desired visitor use, interpretation, and facilities; and issues that need to be resolved.

Comments: If you wish to submit issues or provide input to this initial phase of developing the GMP, you may do so by any one of several methods. In addition to attending scoping meetings, you may mail comments to Superintendent, National Park Service, Coronado National Memorial, 4101 East Montezuma Canyon Road, Hereford, Arizona 85615. You may comment via the Internet to CORO_Superintendent@NPS.gov. Please submit Internet comments as an ASCII file avoiding the use of special characters and any form of encryption. Please also include “Attn: GMP Team” and your name and return address in your Internet message. If you do not receive a confirmation from the system that we have received your Internet message, contact Superintendent James K. Bellamy directly at telephone (520) 366-5515 extension 21. Finally you may hand-deliver your comments to park headquarters, 4101 East Montezuma Canyon Road, Hereford, Arizona. Scoping comments should be received no later than 60 days from the publication of this Notice of Intent. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Superintendent, National Park Service, Coronado National Memorial, Telephone: (520) 366-5515 extension 21; Fax: (520) 366-5705.

Dated: February 10, 2000.
Karen P. Wade,
Director, Intermountain Region, National Park Service.

[FR Doc. 00-4052 Filed 2-18-00; 8:45 am]

BILLING CODE 4310-70-P